NATIONAL AERONAUTICS AND SPACE ADMINISTRATION

[Notice: (17-061)]

Earth Science Advisory Committee; Meeting

AGENCY: National Aeronautics and Space Administration.

ACTION: Notice of meeting.

SUMMARY: In accordance with the Federal Advisory Committee Act, as amended, the National Aeronautics and Space Administration (NASA) announces a meeting of the Earth Science Advisory Committee (ESAC). The meeting will be held for the purpose of soliciting, from the scientific community and other persons, scientific and technical information relevant to program planning.

DATES: Monday, October 2, 2017, 1:30 p.m.-3:30 p.m., Eastern Daylight Time.

ADDRESSES: This meeting will be open to the public telephonically. You must use a touch-tone phone to participate in this meeting. Any interested person may dial the USA toll free number 1-800-369-3189, passcode 9725782, followed by the # sign, to participate in this meeting by telephone.

FOR FURTHER INFORMATION CONTACT: KarShelia Henderson, Science Mission Directorate, NASA Headquarters, Washington, DC 20546, (202) 358-2355, fax (202) 358-2779, or khenderson@nasa.gov.

The agenda for the meeting includes the following topic:

—Earth Science Division Senior Review—Report by the ESAC Senior Review Subcommittee

It is imperative that the meeting be held on this date to accommodate the scheduling priorities of the key participants.

Patricia D. Rausch,
Advisory Committee Management Officer, National Aeronautics and Space Administration.

[FR Doc. 2017-19307 Filed 9-11-17; 8:45 am]

BILLING CODE 7510-13-P